DEPARTMENT OF TRANSPORTATION

Federal Aviation Administration

14 CFR Part 39

[Docket No. FAA-2005-21702; Directorate Identifier 2005-NM-024-AD]

RIN 2120-AA64

Airworthiness Directives; Airbus Model A330 and A340 Series Airplanes

AGENCY: Federal Aviation Administration (FAA), Department of Transportation (DOT).

ACTION: Notice of proposed rulemaking (NPRM).

SUMMARY: The FAA proposes to adopt a new airworthiness directive (AD) for certain Airbus Model A330 and A340 series airplanes. This proposed AD would require repetitive borescope inspections of the left and right fuel tanks of the trimmable horizontal stabilizers (trim tanks) for detached or damaged float valves; related investigative/corrective actions if necessary; and the eventual replacement of all float valves in the left and right trim tanks with new, improved float valves, which terminates the need for the repetitive inspections. This proposed AD would also require repetitive replacement of certain new, improved float valves. This proposed AD is prompted by reports of detached and damaged float valves in the trim tanks. We are proposing this AD to prevent, in the event of a lightning strike to the horizontal stabilizer, sparking of metal parts and debris from detached and damaged float valves, or a buildup of static electricity, which could result in ignition of fuel vapors and consequent fire or explosion.

DATES: We must receive comments on this proposed AD by July 29, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• By fax: (202) 493-2251.

• Hand Delivery: Room PL-401 on the plaza level of the Nassif Building, 400 Seventh Street, SW., Washington, DC, between 9 a.m. and 5 p.m., Monday through Friday, except Federal holidays.

For service information identified in this proposed AD, contact Airbus, 1 Rond Point Maurice Bellonte, 31707 Blagnac Cedex, France.

You can examine the contents of this AD docket on the Internet at http://dms.dot.gov, or in person at the Docket Management Facility, U.S. Department of Transportation, 400 Seventh Street SW., room PL-401, on the plaza level of the Nassif Building, Washington, DC. This docket number is FAA-2005-21702; the directorate identifier for this docket is 2005-NM-024-AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Comments Invited

We invite you to submit any relevant written data, views, or arguments regarding this proposed AD. Send your comments to an address listed under ADDRESSES. Include “Docket No. FAA-2005-21702; Directorate Identifier 2005-NM-024-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

We have examined the underlying safety issues involved in recent fuel tank explosions on several large transport airplanes, including the adequacy of existing regulations, the service history of airplanes subject to those regulations, and existing maintenance practices for fuel tank systems. As a result of those findings, we issued a regulation titled “Transport Airplane Fuel Tank System Design Review, Flammability Reduction and Maintenance and Inspection Requirements” (67 FR 23086, May 7, 2001). In addition to new airworthiness standards for transport airplanes and new maintenance requirements, this rule included Special Federal Aviation Regulation No. 88 (“SFAR 88,” Amendment 21-78, and subsequent Amendments 21-82 and 21-83).

Among other actions, SFAR 88 requires certain type design approval (i.e., type certificate (TC) and supplemental type certificate (STC)) holders to substantiate that their fuel tank systems can prevent ignition sources in the fuel tanks. This requirement applies to type design approval holders for large turbine-powered transport airplanes and for subsequent modifications to those airplanes. It requires them to perform design reviews and to develop design changes and maintenance procedures if their designs do not meet the new fuel tank safety standards. As explained in the preamble to the rule, we intended to adopt airworthiness directives to mandate any changes found necessary to address unsafe conditions identified as a result of these reviews.

In evaluating these design reviews, we have established four criteria intended to define the unsafe conditions associated with fuel tank systems that require corrective actions. The percentage of operating time during which fuel tanks are exposed to flammable conditions is one of these criteria. The other three criteria address the failure types under evaluation: single failures, single failures in combination with another latent condition(s), and in-service failure experience. For all four criteria, the evaluations included consideration of previous actions taken that may mitigate the need for further action.

The Joint Aviation Authorities (JAA) has issued a regulation that is similar to SFAR 88. (The JAA is an associated body of the European Civil Aviation Conference (ECAC) representing the civil aviation regulatory authorities of a number of European States who have agreed to co-operate in developing and implementing common safety regulatory standards and procedures.) Under this regulation, the JAA stated that all members of the ECAC that hold type certificates for transport category airplanes are required to conduct a design review against explosion risks.

We have determined that the actions identified in this proposed AD are necessary to reduce the potential of ignition sources inside fuel tanks, which, in combination with flammable fuel vapors, could result in fuel tank explosions and consequent loss of the airplane.

The Direction Générale de l'Aviation Civile (DGAC), which is the airworthiness authority for France, notified us that an unsafe condition may exist on certain Airbus Model A330 and A340 series airplanes. The DGAC advises that it has received reports of detached and damaged float valves in the left and right fuel tanks of the trimmable horizontal stabilizers (trim tanks). The left tank float valves, part number (P/N) L87-13-001, are manufactured by Intertechnique. The right tank float valves, P/N 61600, are manufactured by Argo-Tech. The float valves are part of the fuel vent system. The DGAC states that the affected float valves detached as a result of environmental fatigue that exceeded the valves' qualification standards. Certain float valves have metal parts which, when detached and positioned in certain locations/orientations in the trim tank, may create ignition sources in the trim tanks. If there is a lightning strike to the horizontal stabilizer, the metal parts and debris from detached and damaged float valves may cause sparking, or a buildup of static electricity, which could result in ignition of fuel vapors and consequent fire or explosion.

The DGAC also advises that a life limit of 24,500 flight cycles must be imposed on Intertechnique vent float valves, P/N L87-13-002, if installed in the left trim tank on Model A330 series airplanes.

Relevant Service Information

Airbus has issued the following service bulletins:

Relevant Service Information
Airbus model | Airbus service bulletin
A330 series airplanes | A330-28-3086, dated July 24, 2003.
| A330-28-3087, Revision 01, dated August 16, 2004.
| A330-28-3088, dated April 27, 2004.
| A330-28-3089, Revision 02, dated April 1, 2005.
| A330-28-3094, dated April 7, 2005.
A340-200 and -300 series airplanes | A340-28-4100, Revision 01, dated August 16, 2004.
| A340-28-4101, Revision 01, dated August 16, 2004.
| A340-28-4102, dated April 27, 2004.
| A340-28-4103, Revision 02, dated April 1, 2005.
| A340-28-4111, dated April 6, 2005.
A340-541 and -642 airplanes | A340-28-5007, May 7, 2004.
| A340-28-5010, May 7, 2004.
| A340-28-5021, dated April 6, 2005.

Service Bulletins A330-28-3086 and A340-28-4100, Revision 01, include procedures for performing repetitive borescope inspections of the right trim tank for detached or damaged float valves, and related investigative/corrective actions if necessary. Service Bulletins A330-28-3087 and A340-28-4101, both Revision 01, include procedures for doing those same actions for the left trim tank. If a float valve is detached, or the arms are damaged, the related investigative/corrective actions include:

• Doing a detailed visual inspection for damage to the trim tank structure;

• Repairing structural damage in accordance with the applicable Airbus Structural Repair Manual (SRM) and contacting Airbus if the damage exceeds the limits specified in the SRM;

• Removing a detached float valve and associated debris from the trim tank;

• Replacing the float valve; and

• Reporting all findings to Airbus.

These service bulletins also provide the option of deactivating an affected trim tank until the float valve can be replaced in accordance with the operator's maintenance schedule. In addition, for airplanes on which some floats are intact, Service Bulletin A340-28-4100, Revision 01, provides the option of contacting Airbus for the possible issuance of an Airbus No Technical Objection (NTO) letter to allow continued operation, for a specified number of flight cycles, without deactivating the trim tank.

Service Bulletins A330-28-3088, A340-28-4102, and A340-28-5007 include procedures for installing a new, improved float valve, P/N 62015-1, manufactured by Argo-Tech, in the right trim tank. The installation procedures include:

• Removing the existing float valve and bonding leads;

• Removing a detached float valve and associated debris from the trim tank, if necessary;

• Repairing structural damage in accordance with the applicable Airbus Structural Repair Manual (SRM) and contacting Airbus if the damage exceeds the limits specified in the SRM;

• Preparing the airplane structure to accommodate the new electrical bonding;

• Installing P/N 62015-1; and

• Performing a bonding test of the float valve.

Service Bulletin A330-28-3088 also specifies a life limit of 20,000 flight cycles since first installation for the new Argo-Tech float valve, P/N 62015-1. Service Bulletins A330-28-3088 and A340-28-4102 state that any removed float valve having a certain part number should be sent to Argo-Tech. In addition, Service Bulletin A330-28-3088 identifies Airbus Service Bulletin A330-55-3022, dated November 4, 1997, as a concurrent service bulletin; and Service Bulletin A340-28-4102 identifies Airbus Service Bulletin A340-55-4023, dated November 4, 1997, as a concurrent service bulletin. The concurrent service bulletins include procedures for installing Teflon gore joints in the front spar panels.

Service Bulletin A330-28-3088 states that accomplishing the actions specified in that service bulletin cancels the inspections specified in Service Bulletin A330-28-3086. Service Bulletin A340-28-4102 states that accomplishing the actions specified in that service bulletin cancels the inspections specified in Service Bulletin A340-28-4100.

Procedures for installing a new, improved float valve, P/N L87-13-002, manufactured by Intertechnique, in the left trim tank, are included in the following service bulletins: A330-28-3089, Revision 02; A340-28-4103, Revision 02; and A340-28-5010. The installation procedures include:

• Removing the existing float valve;

• Removing a detached float valve and associated debris from the trim tank, if necessary;

• Repairing structural damage in accordance with the applicable Airbus Structural Repair Manual (SRM) and contacting Airbus for damage that exceeds the limits specified in the SRM;

• Installing P/N L87-13-002; and

• Performing a bonding test of the float valve.

Service Bulletin A330-28-3089, Revision 02, also specifies a life limit of 24,500 flight cycles since first installation for the new Intertechnique float valve, P/N L87-13-002. Service Bulletins A330-28-3089, Revision 02; A340-28-4103, Revision 02; and A340-28-5010 also state that removed float valves having a certain part number should be sent to Intertechnique. In addition, Service Bulletin A330-28-3089 identifies Airbus Service Bulletin A330-55-3022 as a concurrent service bulletin; and Service Bulletin A340-28-4103 identifies Airbus Service Bulletin A340-55-4023 as a concurrent service bulletin.

Service Bulletin A330-28-3089, Revision 02, states that accomplishing the actions in that service bulletin cancels the inspections specified in Service Bulletin A330-28-3087. Service Bulletin A340-28-4103, Revision 02, states that accomplishing the actions in that service bulletin cancels the inspections specified in Service Bulletin A340-28-4101.

Procedures for installing a new, improved float valve, P/N L87-13-003, manufactured by Intertechnique, in the left trim tank, are included in the following service bulletins: A330-28-3094, A340-28-4111, and A340-28-5021. The installation procedures include:

• Removing the existing float valve;

• Removing a detached float valve and associated debris from the trim tank, if necessary;

• Repairing structural damage in accordance with the applicable Airbus Structural Repair Manual (SRM) and contacting Airbus for damage that exceeds the limits specified in the SRM;

• Installing P/N L87-13-003; and

• Performing a bonding test of the float valve.

Service Bulletin A330-28-3094 states that, if P/N L87-13-002 has not been installed, accomplishing the actions specified in that service bulletin eliminates the need for accomplishing the actions specified in Service Bulletin A330-28-3089. Service Bulletin A340-28-4111 states that, if P/N L87-13-002 has not been installed, accomplishing the actions specified in that service bulletin eliminates the need for accomplishing the actions specified in Service Bulletin A340-28-4103. Service Bulletin A340-28-5021 states that, if P/N L87-13-002 has not been installed, accomplishing the actions specified in that service bulletin eliminates the need for accomplishing the actions specified in Service Bulletin A340-28-5010.

The DGAC mandated the service information and issued French airworthiness directives F-2005-003, dated January 5, 2005, and F-2005-004 R1 and F-2005-005 R1, both dated April 27, 2005, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are proposing this AD, which would require repetitive borescope inspections of the left and right fuel tanks of the trimmable horizontal stabilizers (trim tanks) for detached or damaged float valves; related investigative/corrective actions if necessary; and the eventual replacement of all float valves in the left and right trim tanks with new, improved float valves, which terminates the need for the repetitive inspections. This proposed AD would also require repetitive replacement of certain new, improved float valves.

Differences Among the Proposed AD, French Airworthiness Directives, and Service Information

All of the service bulletins specify that if the structural damage caused by a detached float exceeds the limits in the applicable Airbus SRM, you may contact the manufacturer for instructions on how to repair the damage. This proposed AD would require you to contact us, or the DGAC (or its delegated agent), for instructions on how to repair damage that exceeds the limits in the SRM. Also, this proposed AD provides the option of either repairing any structural damage in accordance with the applicable service bulletin, or in accordance with a method approved by us, or the DGAC (or its delegated agent). In light of the type of repair that would be required to address the unsafe condition, and consistent with existing bilateral airworthiness agreements, we have determined that, for this proposed AD, a repair we or the DGAC approve would be acceptable for compliance with this proposed AD.

Service Bulletin A340-28-4100, Revision 01, provides operators the option of contacting Airbus for the possible issuance of an Airbus NTO letter to allow continued operation without deactivating the trim tank for a specified number of flight cycles. This proposed AD would not allow that action. We can better ensure long-term continued operational safety by having operators correct the source of the problem, the trim tank. Anyone may apply for an AMOC and make a request to temporarily operate an airplane without a deactivated trim tank.

Operators should note that, although the Accomplishment Instructions of certain referenced service bulletins describe procedures for submitting an inspection report sheet to Airbus, or returning removed float valves to the float valve manufacturer, this proposed AD would not require those actions.

Concurrent Service Information

Airbus Service Bulletins A330-28-3088 and A330-28-3089 identify Airbus Service Bulletin A330-55-3022 as a concurrent service bulletin, and Airbus Service Bulletins A340-28-4102 and A340-28-4103 identify Airbus Service Bulletin A340-55-4023 as a concurrent service bulletin. The concurrent service bulletins include procedures for installing Teflon gore joints on front spar access panel 343ER. That action reduces the number of work hours needed to remove and install the access panel when the new, improved float valves are installed. The French airworthiness directives do not mandate accomplishment of the concurrent service bulletins and this proposed AD would not require accomplishment of the concurrent service bulletins.

Clarification of Life Limit in Paragraph (h) of the Proposed AD

For Airbus Model A330 series airplanes, French airworthiness directive F-2005-003, dated January 5, 2005, mandates a life limit of 24,500 flight cycles “since new” for Intertechnique float valve, P/N L87-13-002. This P/N failed in a mode that potentially re-introduced the possible ignition source, so a life limit is necessary. The DGAC has informed us that it does not intend to issue a parallel French airworthiness directive for Airbus Model A340 series airplanes. The DGAC states that a float valve life limit of 24,500 flight cycles is above the A340 design service goal of 20,000 flight cycles. Intertechnique float valve, P/N L87-13-003, did not exhibit any failure during qualification tests and does not have a life limit for Airbus Model A330 or A340 series airplanes.

Clarification of Inspection Terminology

In this proposed AD, the “detailed visual inspection” specified in the Airbus service bulletins is referred to as a “detailed inspection.” We have included the definition for a detailed inspection in Note 1 of this AD.

Costs of Compliance

The following table provides the estimated costs for U.S. operators of Model A330 series airplanes to comply with this proposed AD.

Estimated Costs
Action | Work hours | Average labor rate per hour | Parts | Cost per airplane | Number of U.S.-registered airplanes | Fleet cost
Borescope inspection, per inspection cycle | 2 (1 hour per float, 2 floats per airplane) | $65 | None | $130 | 25 | $3,250, per inspection cycle.
Installation of float valves | 4 (2 per valve, 2 valves per airplane) | 65 | No charge | 260 | 25 | $6,500, per installation.
Bonding test (new, improved float valves, left trim tank only) | 1 | 65 | None | 65 | 25 | $1,625.

Currently, there are no affected Model A340 series airplanes on the U.S. Register. However, should an affected airplane be imported and placed on the U.S. Register in the future, it would be subject to the proposed actions of this AD. The estimated costs would be the same as those listed above for the Model A330 series airplanes.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2005-21702; Directorate Identifier 2005-NM-024-AD.

Comments Due Date

(a) The Federal Aviation Administration must receive comments on this AD action by July 29, 2005.

Affected ADs

(b) None.

Applicability

(c) This AD applies to Airbus Model A330 and A340 series airplanes, certificated in any category, as identified in Table 1 of this AD.

Table 1.—Applicability
Airbus model | Except those modified in production by airbus modification
A330 series airplanes | 51953 and either 52110 or 53081
A340-200 and -300 series airplanes | 51953 and either 52110 or 53081
A340-541 and -642 airplanes | 51951 and either 52109 or 53081

Unsafe Condition

(d) This AD was prompted by reports of detached and damaged float valves in the left and right fuel tanks of the trimmable horizontal stabilizers (trim tanks). We are issuing this AD to prevent, in the event of a lightning strike to the horizontal stabilizer, sparking of metal parts and debris from detached and damaged float valves, or a buildup of static electricity, which could result in ignition of fuel vapors and consequent fire or explosion.

Compliance

(e) You are responsible for having the actions required by this AD performed within the compliance times specified, unless the actions have already been done.

Borescope Inspection

(f) At the later of the times specified in paragraph (f)(1) and (f)(2) of this AD: Do a borescope inspection for detached or damaged float valves in the left and right trim tanks, by doing the applicable actions in the Accomplishment Instructions of Airbus Service Bulletins A330-28-3086, dated July 24, 2003; and A330-28-3087, Revision 01, dated August 16, 2004 (for Model A330 series airplanes); or A340-28-4100 and A340-28-4101, both Revision 01, both dated August 16, 2004 (for Model A340-200 and -300 series airplanes); as applicable.

(1) Prior to the accumulation of 2,500 total flight cycles or 15,000 total flight hours, whichever is first.

(2) Within 7,500 flight hours after the effective date of this AD.

Related Investigative and Corrective Actions

(g) Depending on the results of the inspection required by paragraph (f) of this AD: Do the applicable actions in accordance with the Accomplishment Instructions of the applicable service bulletin identified in Table 2 of this AD, at the times specified in Table 2.

Table 2.—Inspection Results and Related Investigative/Corrective Actions
If inspection results reveal— | Then— | In accordance with Airbus Service Bulletin—
Detached or damaged float valve in the right trim tank | Before further flight: (1) Remove the detached float and float debris from the trim tank and do a detailed inspection for structural damage to the affected trim tank tank. Repair any structural damage to the trim tank or deactivate the trim tank, before further flight, in accordance with the applicable service bulletin, or in accordance with a method approved by the Manager, International Branch, ANM-116, FAA, Transport Airplane Directorate; or the Direction Générale de l'Aviation Civile (DGAC) (or its delegated agent). Where the service bulletin specifies to contact the manufacturer, instead contact the Manager, International Branch, ANM-116, or the DGAC (or its delegated agent) | A330-28-3086, dated July 24, 2003. A340-28-4100, Revision 01, dated August 16, 2004.
| Before further flight, after doing the detailed inspection and repairing any structural damage: (2) Replace the affected float valve with a new unit having the same part number (P/N), or a new, improved float valve, P/N 62015-1. If a new unit of P/N 61600 is installed, thereafter, do the inspection required by paragraph (f) of this AD at intervals not to exceed 2,500 flight cycles or 15,000 flight hours, whichever is first, after the most recent inspection, until paragraph (h) of this AD is accomplished | A330-28-3086, dated July 24, 2003. A330-28-3088, dated April 27, 2004. A340-28-4100, Revision 01, dated August 16, 2004. A340-28-4102, dated April 27, 2004.
Detached or damaged float valve in the left trim tank | Before further flight: (1) Remove the detached float and float debris from the trim tank and do a detailed inspection for structural damage to the affected trim tank. Repair any structural damage to the trim tank or deactivate the trim tank, before further flight, in accordance with the applicable service bulletin, or in accordance with a method approved by the Manager, International Branch, ANM-116, FAA, Transport Airplane Directorate; or the DGAC (or its delegated agent). Where the service bulletin specifies to contact the manufacturer, instead contact the Manager, International Branch, ANM-116, or the DGAC (or its delegated agent) | A330-28-3087, Revision 01, dated August 16, 2004. A340-28-4101, Revision 01, dated August 16, 2004.
| Before further flight, after doing the detailed inspection and repairing any structural damage: (2) Replace the affected float valve with either a new unit having that same P/N, or a new improved float valve, P/N L87-13-002 or P/N L87-13-003. If a new unit of P/N L87-13-001 is installed, thereafter, do the inspection required by paragraph (f) of this AD at intervals not to exceed 2,500 flight cycles or 15,000 flight hours, whichever is first, after the most recent inspection, until paragraph (h) of this AD is accomplished. For Airbus Model A330 series airplanes, if a float valve having P/N L87-13-002 is installed, thereafter, replace that float valve with a float valve having that same P/N at intervals not to exceed those specified in paragraph (h) of this AD. Installation of P/N L87-13-003 on Airbus Model A330 series airplanes terminates the repetitive float valve replacement required by paragraph (h) of this AD | A330-28-3087, Revision 01, dated August 16, 2004. A330-28-3089, Revision 02, dated April 1, 2005. A330-28-3094, dated April 7, 2005. A340-28-4101, Revision 01, dated August 16, 2004. A340-28-4103, Revision 02, dated April 1, 2005. A340-28-4111, dated April 6, 2005.
No damaged or detached float valve in the right trim tank | Within 10,000 flight hours or 1,500 flight cycles, whichever is first, from the initial float inspection done in accordance with paragraph (f) of this AD, replace the existing Argo-new Tech float valve, P/N 61600, with either a unit having that same P/N, or a new, improved float valve, P/N 62015-1. If a new unit of P/N 61600 is installed, thereafter, repeat the inspection required by paragraph (f) of this AD at intervals not to exceed 2,500 flight cycles or 15,000 flight hours, whichever is first, until paragraph (h) of this AD is accomplished | A330-28-3086, dated July 24, 2003. A330-28-3088, dated April 27, 2004. A340-28-4100, Revision 01, dated August 16, 2004. A340-28-4102, dated April 27, 2004.
No damaged detached float valve in the left trim tank | Within 10,000 flight hours or 1,500 flight cycles, whichever is first, from the initial inspection done in accordance with paragraph (f) of this AD, replace the existing trim tank Intertechnique float valve, P/N L87-13-001, with either a new unit having that same P/N, or a new improved float valve, P/N L87-13-002 or P/N L87-13-003. If a new unit of P/N L87-13-001 is installed, thereafter, do the inspection required by paragraph (f) of this AD at intervals not to exceed 2,500 flight cycles or 15,000 flight hours, whichever is first, after the most recent inspection, until paragraph (h) of this AD is accomplished. For Airbus Model A330 series airplanes, if a float valve having P/N L87-13-002 is installed, thereafter, replace that float valve with a float valve having that same P/N at intervals not to exceed those specified in paragraph (h) of this AD. Installation of P/N L87-13-003 on Airbus Model A330 series airplanes terminates the repetitive float valve replacement required by paragraph (h) of this AD | A330-28-3087, Revision 01, August 16, 2004. A330-28-3089, Revision 02, dated April 1, 2005. A330-28-3094, dated April 7, 2005. A340-28-4101, Revision 01, dated August 16, 2004. A340-28-4103, Revision 02, dated April 1, 2005. A340-28-4111, dated April 6, 2005.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Installation of New, Improved Float Valves

(h) Within 50 months after the effective date of this AD: Replace any Argo-Tech float valve, P/N 61600, with a new, improved float valve, P/N 62015-1; replace any Intertechnique float valve, P/N L87-13-001, with a new, improved float valve, P/N L87-13-002 or P/N L87-13-003; and do any applicable corrective action; by accomplishing the actions specified in the Accomplishments Instructions of the applicable service bulletin in Table 3 of this AD. Do any applicable corrective action before further flight. For Airbus Model A330 series airplanes, if P/N L87-13-002 is installed, replace the float valve thereafter at intervals not to exceed 24,500 flight cycles. Installation of P/N L87-13-003 on Airbus Model A330 series airplanes terminates the repetitive float valve replacement required by this paragraph. Installation of either P/N L87-13-002 or P/N L87-13-003 terminates the borescope inspections required by paragraphs (f) and (g) of this AD. Where the service bulletin specifies to contact the manufacturer, instead contact the Manager, International Branch, ANM-116, or the DGAC (or its delegated agent).

Table 3.—Service Information for New Float Valves
Airbus model | Float valve P/N | Airbus service bulletin
A330 series airplanes | 62015-1 L87-13-002 L87-13-003 | A330-28-3088, dated April 27, 2004. A330-28-3089, Revision 02, dated April 1, 2005. A330-28-3094, dated April 7, 2005.
340-200 and -300 series airplanes | 62015-1 L87-13-002 L87-13-003 | A340-28-4102, dated April 27, 2004. A340-28-4103, Revision 02, dated April 1, 2005. A340-28-4111, dated April 6, 2005.
A340-541 and -642 airplanes | 62015-1 L87-13-002 L87-13-003 | A340-28-5007, dated May 7, 2004. A340-28-5010, dated May 7, 2004. A340-28-5021, dated April 6, 2005.

Actions Accomplished Previously

(i) Inspections and related investigative and corrective actions accomplished before the effective date of this AD, in accordance with any applicable Airbus service bulletin identified in Table 4 of this AD, are acceptable for compliance with the corresponding actions specified in this AD.

Table 4.—Service Information For Actions Accomplished Previously
Airbus model | Airbus service bulletin
A330 series airplanes | A330-28-3087, dated July 24, 2003. A330-28-3089, Revision 01, dated May 12, 2004.
A340-200 and -300 series airplanes | A340-28-4100, dated July 24, 2003. A340-28-5010, dated May 7, 2004. A340-28-5021, dated April 6, 2005.

No Submission of Information/Parts

(j) Where any Airbus service bulletin specifies to submit information to Airbus, or send removed float valves to either Argo-Tech or Intertechnique, those actions are not required by this AD.

Alternative Methods of Compliance (AMOCs)

(k) The Manager, International Branch, ANM-116, Transport Airplane Directorate, FAA, has the authority to approve AMOCs for this AD, if requested in accordance with the procedures found in 14 CFR 39.19.

Related Information

(l) French airworthiness directives F-2005-003, dated January 5, 2005, and F-2005-004 R1 and F-2005-005 R1, both dated April 27, 2005, also address the subject of this AD.

Issued in Renton, Washington, on June 22, 2005.
Ali Bahrami,
Manager, Transport Airplane Directorate, Aircraft Certification Service.

[FR Doc. 05-12839 Filed 6-28-05; 8:45 am]

BILLING CODE 4910-13-P